NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by June 23, 2011 This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant: Jonathan Thom, Space Science and Engineering Center, University of Wisconsin-Madison, 1225 W. Dayton Street, Madison, WI 53706.

Permit Application No. 2012-002.

Activity for Which Permit is Requested: Enter an Antarctic Specially Protected Area. The applicant plans to enter Cape Hallett (ASPA #106) to consolidate the two automatic weather stations (AWS) currently deployed into one station. The two existing stations will be removed and replaced with one new station. The new AWS will be installed on a tripod support and will include standard meteorological instrumentation (wind, pressure, solar radiation, temperature and relative humidity).

Location: Cape Hallett—ASPA #106.

Dates: November 2, 2011 to January 31, 2012.

1. Applicant: Jo-Ann Mellish, Alaska SeaLife Center, 301 Railway Avenue, Seward, AK 99664-1329.

Permit Application No. 2012-003.

Activity for Which Permit is Requested: Take and Enter an Antarctic Specially Protected Area. The applicant plans capture up to a total of 40 Weddell seals (weaned pups through non-pregnant adults) over a two-year period to collect morphometric measurements, including weighing, collect blood samples and blubber samples. In addition, a telemetry pack will be glued to the fur in the mid-dorsal region to record diving depth, swim speed, ambient temperature and light levels, stomach temperature, heat flux and skin temperature. Also a stroke frequency sensor will be glued to the base of the tail. The glued instruments will be retrieved after approximately a week. Should an instrumented animal haul out in at Cape Royds (ASPA #121), they will attempt to usher the animal outside the ASPA before retrieving the instruments.

Despite being an essential physiological component of homoeothermic life in polar regions, little is known about the energetic requirements for thermoregulation in either air or water for high-latitude seals. Utilizing a two-part study including a hypothesis-driven field experiment and an objective driven model component, the applicant will quantify these costs for the Weddell seal under both ambient air and water conditions. The wide range of body size (80 kg pups-450 kg adults) and condition (10-45% total body fat) of these seals makes them an ideal model polar species to investigate both physiological costs and limitations of thermoregulation as a function of body mass and isolative properties.

Location: Delbrige Islands, Turtle Rock, Hutton Cliffs, the Erebus glacier tongue, Turks Head, other suitable areas in McMurdo Sound, and Cape Royds (ASPA #121).

Dates: October 2, 2011 to January 31, 2013.

Nadene G. Kennedy,
Permit Officer, Office of Polar Programs.

[FR Doc. 2011-12658 Filed 5-23-11; 8:45 am]

BILLING CODE 7555-01-P